DEPARTMENT OF ENERGY

Federal Energy Regulatory Commission

[Docket Nos. RM01-8-000 and ER02-2001-000]

Revised Public Utility Filing Requirements, Electric Quarterly Reports; Notice of Electric Quarterly Reports Workshop

March 24, 2003.

On April 25, 2002, the Commission issued Order No. 2001,¹ a final rule which requires public utilities to file Electric Quarterly Reports. Order 2001-C, issued December 18, 2002, instructs all public utilities to file these reports using Electric Quarterly Report Submission Software, beginning with the report due on or before January 31, 2003 (extended to February 21, 2003). In addition, the Commission has provided public access to Electric Quarterly Reports (EQR) data using the Commission's Web site at http://www.ferc.gov /Electric/eqr/eqr.htm. This notice announces a workshop to be held Friday, April 11, 2003, at 9:30 a.m., at FERC headquarters, 888 First Street, NW., Washington, DC.

¹ Revised Public Utility Filing Requirements, Order No. 2001, 67 FR 31043, FERC Stats. & Regs. ¶ 31,127 (April 25, 2002); reh'g denied, Order No. 2001-A, 100 FERC ¶ 61,074, reconsideration and clarification denied, Order No.2001-B, 100 FERC ¶ 61,342 (2002).

At the workshop, Commission staff will:

• Demonstrate improvements made to the EQR Submission System which have been put in place for the first quarter 2003 filing;

• Discuss lessons learned during the first quarter filing period;

• Solicit input from interested parties on suggested improvements to the EQR Submission System and possible additions to the list of available Product Names;

• Solicit input from interested parties and data users regarding the EQR Dissemination System, discuss existing system plans and demonstrate some of the preliminary components of the EQR Dissemination System.

All interested parties are invited to attend. There is no registration fee. The workshop will be held in the Commission Meeting Room, Room 2C, and is expected to last up to four hours. In addition, for those unable to attend in person, limited access to the workshop will be available via the Internet using WebEx at no cost to participants. (For more information on WebEx, see http://www.webex.com.) Instructions on registering for the workshop using WebEx will be detailed in a future Notice. Interested parties wishing to file comments may do so under the above-captioned Docket Numbers by April 28, 2003. Filings will be placed in the Federal Energy Regulatory Record Information System (FERRIS) data base which is accessible to everyone through the Commission Web site. These filings will be available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659.

For additional information, please contact Barbara Bourque of FERC's Office of Market Oversight & Investigations at 202-502-8338 or by e-mail, barbara.bourque@ferc.gov.

Magalie R. Salas,
Secretary.

[FR Doc. 03-7587 Filed 3-28-03; 8:45 am]

BILLING CODE 6717-01-P